DEPARTMENT OF LABOR

Employment and Training Administration

Notice of Continuation of Certification

[TA-W-80,308]

Roseburg Forest Products, Composite Panel Division, Including On-Site Leased Workers of Robert Half, Orangeburg, SC

[TA-W-80,308A]

Roseburg Forest Products, Composite Panel Division, Including On-Site Leased Workers of Robert Half, Russellville, SC

On August 12, 2011, the Department of Labor (Department) issued a certification regarding workers' eligibility to apply for Trade Adjustment Assistance (TAA) applicable to workers and former workers of Roseburg Forest Products, Composite Panel Division, Orangeburg, South Carolina (TA-W-80,308) and Russellville, South Carolina (TA-W-80,308A). The Department's Notice of determination was published in the Federal Register on September 2, 2011 (76 FR 54796).

The certification was based on the Department's findings that aggregate industry imports of articles like or directly competitive with the articles produced by Roseburg Forest Products, Composite Panel Division, Orangeburg, South Carolina and Russellville, South Carolina had contributed importantly to subject worker group separations.

Subsequent to the issuance of the certification, the Department received information that suggested that the aggregate industry import data on which the certification determination relied may have included related articles that may not be either like or directly competitive with either particleboard or laminated wood panels.

On July 17, 2012, the Department issued a Notice of Investigation Regarding Termination of Certification of workers and former workers of Roseburg Forest Products, Composite Panel Division, Orangeburg, South Carolina and Russellville, South Carolina. The Department's Notice of Investigation Regarding Termination of Certification was published in the Federal Register on July 30, 2012 (77 FR 44683), and the Department conducted what is referred to herein as the “immediate investigation.”

During the immediate investigation, Roseburg Forest Products (subject firm) confirmed that the subject facilities produced particleboard and/or laminated wood panels, and provided additional information regarding the subject facilities' operations related to particleboard and/or laminated wood panel production and their respective relationships to the subject firm's customers of particleboard and/or laminated wood panels.

Taking into consideration the new information provided by the subject firm, the Department reviewed previously-submitted aggregate industry import data and the previously-conducted aggregate import analysis. The Department then excluded import data unrelated to particleboard and/or laminated wood panels (and like or directly competitive articles) and conducted another aggregate industry import analysis for the same time period but using the revised aggregate import database.

The Department's analysis of this database revealed that the import levels of the subject articles and like or directly competitive articles did not increase during the relevant period. Therefore, aggregate data did not provide a basis for certifying the subject worker groups under Section 222 of the Act, 19 U.S.C., 2272, as described in the determination issued on August 12, 2011.

After determining that the basis for certification as described in the determination was not valid, the Department continued the immediate investigation to determine whether conditions during the relevant time period nevertheless supported the ultimate conclusion of the determination that the workers and former workers of Roseburg Forest Products, Composite Panel Division, Orangeburg, South Carolina and Russellville, South Carolina met the eligibility criteria set forth in the Trade Act of 1974, as amended (the Act).

The Department obtained new information regarding the subject firm's major declining customers of particleboard and/or laminated wood panels and related import data of particleboard and/or laminated wood panels (and like or directly competitive articles) by the subject firm's customers.

Using the new customer information and previously-submitted information from the subject firm regarding particleboard and/or laminated wood panels sales and production at Roseburg Forest Products, Composite Panel Division, Orangeburg, South Carolina and Russellville, South Carolina, the Department conducted another import analysis for the relevant time period.

The immediate investigation revealed increased imports (direct and indirect imports) of particleboard wood panels by major declining customer(s) of the subject firm during 2010 from 2009 levels and during partial year 2011 from the corresponding 2010 period (the relevant period).

Based on a careful analysis of all information provided in the immediate and earlier investigations, the Department determines that increased customer imports of articles like or directly competitive with the particleboard and/or laminated wood panels produced at the subject facilities contributed importantly to worker group separations at Roseburg Forest Products, Composite Panel Division, Orangeburg, South Carolina and Russellville, South Carolina.

Conclusion

After careful review of the facts obtained in the initial investigation of the petition referenced as TA-W-80,308 and TA-W-80,308A and the immediate investigation, I determine, in accordance with Section 223 of the Act, 19 U.S.C. 2273, that the certification of workers and former workers of Roseburg Forest Products, Composite Panel Division, including on-site leased workers of Robert Half, Orangeburg, South Carolina (TA-W-80,308) and Roseburg Forest Products, Composite Panel Division, including on-site leased workers of Robert Half, Russellville, South Carolina (TA-W-80,308A), issued on August 12, 2011 and published in the Federal Register on September 2, 2011 (76 FR 54796) should not be terminated. As described in the certification, I conclude that these workers, who are/were engaged in activities related to production of particleboard and/or laminated wood panels, have met the worker group certification criteria under 222(a) of the Act, 19 U.S.C. 2272(a).

Signed in Washington, DC, this 31st day of August, 2012
Del Min Amy Chen,
Certifying Officer, Office of Trade Adjustment Assistance.

[FR Doc. 2012-22649 Filed 9-13-12; 8:45 am]

BILLING CODE 4510-FN-P